DEPARTMENT OF THE TREASURY

Internal Revenue Service

26 CFR Part 1

[REG-143321-02; REG-156232-03]

RIN 1545-BB60; RIN 1545-BC80

Information Reporting Relating to Taxable Stock Transactions; Correction

AGENCY: Internal Revenue Service (IRS), Treasury.

ACTION: Correction to withdrawal of previous proposed rules; notice of proposed rulemaking by cross-reference to temporary regulations and notice of public hearing.

SUMMARY: This document contains corrections to a withdrawal of previous proposed rules; notice of proposed rulemaking by cross-reference to temporary regulations and notice of public hearing that was published in the Federal Register on Tuesday, December 30, 2003 (68 FR 75182), relating to information reporting by a corporation if control of the corporation has a recapitalization or other substantial change in capital structure.

FOR FURTHER INFORMATION CONTACT: Nancy L. Rose, (202) 622-4910 (not a toll-free number).

SUPPLEMENTARY INFORMATION:

Background

The withdrawal of previous proposed rules; notice of proposed rulemaking by cross-reference to temporary regulations and notice of public hearing (REG-143321-02; REG-156232-03) that is the subject of this correction is under sections 6043(c) and 6045 of the Internal Revenue Code.

Need for Correction

As published, the withdrawal of previous proposed rules; notice of proposed rulemaking by cross-reference to temporary regulations and notice of public hearing (REG-143321-02; REG-156232-03) contains an error that may prove to be misleading and is in need of clarification.

Correction of Publication

Accordingly, the publication of the withdrawal of previous proposed rules; notice of proposed rulemaking by cross-reference to temporary regulations and notice of public hearing (REG-143321-02; REG-156232-03), that was the subject of FR Doc. 03-31362, is corrected as follows:

1. On page 75184, column 1, in the preamble under the paragraph heading “Comments and Public Hearing”, line 10, the language “to understand. All comments will be” is corrected to read “to understand. Comments are particularly requested with respect to the ability of brokers to obtain the information necessary for reporting under the proposed rules. All comments will be”.

Cynthia E. Grigsby,
Acting Chief, Publications and Regulations Branch, Legal Processing Division, Associate Chief Counsel (Procedure and Administration).

[FR Doc. 04-3263 Filed 2-12-04; 8:45 am]

BILLING CODE 4830-01-P